DEPARTMENT OF LABOR

Employment and Training Administration

[TA-W-57,807]

TRW Automotive, Valve Division, Danville, PA; Notice of Termination of Investigation

Pursuant to Section 221 of the Trade Act of 1974, as amended, an investigation was initiated on August 22, 2005 in response to a petition filed by a company official on behalf of workers of TRW Automotive, Valve Division, Danville, Pennsylvania. The workers produced valves for internal combustion engines.

The petition regarding the investigation has been deemed invalid. In order to establish a valid worker group, there must be at least three full-time workers employed at some point during the period under investigation. Workers of the group subject to this investigation did not meet this threshold level of employment. Consequently, the investigation has been terminated.

Signed in Washington, DC, this 30th day of August, 2005.
Richard Church,
Certifying Officer, Division of Trade Adjustment Assistance.

[FR Doc. E5-5194 Filed 9-26-05; 8:45 am]

BILLING CODE 4510-30-P